DEPARTMENT OF TRANSPORTATION

Federal Aviation Administration

14 CFR Part 39

[Docket No. FAA-2006-26235; Directorate Identifier 2006-CE-65-AD; Amendment 39-14945; AD 2007-04-13]

RIN 2120-AA64

Airworthiness Directives; EADS SOCATA Model TBM 700 Airplanes

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as cracks found on several main landing gear cylinders. We are issuing this AD to require actions to correct the unsafe condition on these products.

DATES: This AD becomes effective March 23, 2007.

The Director of the Federal Register approved the incorporation by reference of certain publications listed in this AD as of March 23, 2007.

ADDRESSES: You may examine the AD docket on the Internet at http://dms.dot.gov or in person at the Docket Management Facility, U.S. Department of Transportation, 400 Seventh Street, SW., Nassif Building, Room PL-401, Washington, DC.

FOR FURTHER INFORMATION CONTACT: Albert J. Mercado, Aerospace Engineer, FAA, Small Airplane Directorate, 901 Locust, Room 301, Kansas City, Missouri 64106; telephone: (816) 329-4119; fax: (816) 329-4090.

SUPPLEMENTARY INFORMATION:

Streamlined Issuance of AD

The FAA is implementing a new process for streamlining the issuance of ADs related to MCAI. The streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

We issued a notice of proposed rulemaking (NPRM) to amend 14 CFR part 39 to include an AD that would apply to the specified products. That NPRM was published in the Federal Register on December 22, 2006 (71 FR 76950). That NPRM proposed to correct an unsafe condition for the specified products. The MCAI states reports of cracks found on several main landing gear (MLG) cylinders. If not detected and corrected, fatigue cracks in the shock strut cylinder of the MLG could result in a collapsed MLG during takeoff or landing, and possible reduced structural integrity of the airplane. The MCAI requires inspecting the MLG forging body for cracks and repairing any cracks found.

Comments

We gave the public the opportunity to participate in developing this AD. We considered the comments received.

Comment Issue No. 1: Change the Required Parts Cost in the Compliance Section

EADS SOCATA comments the cost for the parts required to do the actions in the proposed AD are totally out of proportion. EADS SOCATA states the application of SB 70-130, ATA No. 32, dated January 2006, requires only two cotter pins and this cost is negligible.

The proposed AD states it will take approximately $125,600 to comply with the AD.

In our cost estimate, we grouped all actions required to comply with the AD, including replacement of any MLG found cracked. We have since learned from EADS SOCATA that labor and parts costs for any cracked MLG will be provided under warranty. We will modify the Costs of Compliance section to reflect the 3 work-hours to do the inspection and the warranty coverage for the replacement MLG.

Comment Issue No. 2: Change the Number of Work-Hours in the Compliance Section

EADS SOCATA comments they have established, by applying the service bulletin, it takes 2 work-hours per product to perform an eddy current inspection, and it takes 3 work-hours per product to perform a dye penetrant or fluorescent penetrant inspection.

The proposed AD states it will take approximately 18 work-hours to comply with the AD.

In our cost estimate, we grouped all actions required to comply with the AD, including replacement of any MLG found cracked. We have since learned from EADS SOCATA that labor and parts costs for any cracked MLG will be provided under warranty. We will modify the Costs of Compliance section to reflect the 3 work-hours to do the inspection and the warranty coverage for the replacement MLG.

Comment Issue No. 3: Change the Compliance Time

EADS SOCATA comments that SB 70-130, ATA No. 32, dated January 2006, specifies for MLG with forging body totaling more than 3,500 landings to inspect the forging body within 25 landings after issuance of the service bulletin. However, the proposed AD lowers the limit to 3,475 landings. EADS SOCATA states the limit of 3,500 landings was established by analysis considering all necessary margins.

EADS SOCATA requests the FAA change paragraph (e)(2) to read, “For MLG with forging body totaling more than 3,500 landings:” or explain the reason for the difference in the FAA AD Differences section.

After evaluating the service bulletin further, we agree with the language presented by the commenter. We will change the final rule AD action based on this comment.

Conclusion

We reviewed the available data, including the comments received, and determined that air safety and the public interest require adopting the AD with the changes described previously. We determined that these changes will not increase the economic burden on any operator or increase the scope of the AD.

Differences Between this AD and the MCAI or Service Information

We have reviewed the MCAI and related service information and, in general, agree with their substance. But we might have found it necessary to use different words from those in the MCAI to ensure the AD is clear for U.S. operators and is enforceable in a U.S. court of law. In making these changes, we do not intend to differ substantively from the information provided in the MCAI and related service information.

We might also have required different actions in this AD from those in the MCAI in order to follow FAA policies. Any such differences are described in a separate paragraph of the AD. These requirements, if any, take precedence over the actions copied from the MCAI.

Costs of Compliance

We estimate that this AD will affect 272 products of U.S. registry. We also estimate that it will take about 3 work-hours per product to comply with the basic requirements (inspection) of this AD. The average labor rate is $80 per work-hour. Based on these figures, we estimate the cost of the basic requirements of this AD to the U.S. operators to be $65,280, or $240 per product.

In addition, follow-on actions (possible MLG replacement) would be covered by EADS SOCATA under warranty (both parts and labor). We have no way of determining the number of airplanes that would need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://dms.dot.gov; or in person at the Docket Management Facility between 9 a.m. and 5 p.m., Monday through Friday, except Federal holidays. The AD docket contains the NPRM, the regulatory evaluation, any comments received, and other information. The street address for the Docket Office (telephone (800) 647-5227) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-04-13 EADS SOCATA: Amendment 39-14945; Docket No. FAA-2006-26235; Directorate Identifier 2006-CE-65-AD.

Effective Date

(a) This airworthiness directive (AD) becomes effective March 23, 2007.

Affected ADs

(b) None.

Applicability

(c) This AD applies to Model TBM 700 airplanes, serial numbers 1 through 9999, certificated in any category.

Reason

(d) The mandatory continuing airworthiness information (MCAI) states reports of cracks found on several main landing gear (MLG) cylinders. If not detected and corrected, fatigue cracks in the shock strut cylinder of the MLG could result in a collapsed MLG during takeoff or landing, and possible reduced structural integrity of the airplane.

Actions and Compliance

(e) Unless already done, do the following actions.

(1) As of March 23, 2007 (the effective date of this AD), for MLG with forging body totaling more than 1,750 landings but less than 3,501 landings since new:

(i) Inspect the forging body for cracks within 100 landings after March 23, 2007 (the effective date of this AD) in accordance with the accomplishment instructions of EADS SOCATA TBM Aircraft Mandatory Service Bulletin SB 70-130, ATA No. 32, dated January 2006.

(ii) If no cracks are detected, repetitively inspect thereafter every 175 landings.

(2) As of March 23, 2007 (the effective date of this AD), for MLG with forging body totaling more than 3,500 landings since new:

(i) Inspect the forging body for cracks within 25 landings after March 23, 2007 (the effective date of this AD) in accordance with the accomplishment instructions of EADS SOCATA TBM Aircraft Mandatory Service Bulletin SB 70-130, ATA No. 32, dated January 2006.

(ii) If no cracks are detected, repetitively inspect thereafter every 175 landings.

(3) If any cracks are detected during any inspection required in paragraph (e) of this AD:

(i) Before further flight, remove the affected landing gear leg and confirm the presence of the crack with dye penetrant inspection or fluorescent penetrant inspection.

(ii) If the crack is confirmed, before further flight, contact EADS SOCATA to coordinate the landing gear repair/replacement and then conform to any instruction stated by EADS SOCATA.

(4) If you do not know the number of landings, follow the instructions in the Compliance section of EADS SOCATA TBM Aircraft Mandatory Service Bulletin SB 70-130, ATA No. 32, dated January 2006.

FAA AD Differences

Note: This AD differs from the MCAI and/or service information as follows: No differences.

Other FAA AD Provisions

(f) The following provisions also apply to this AD:

(1) Alternative Methods of Compliance (AMOCs): The Manager, Standards Staff, FAA, Small Airplane Directorate, ATTN: Albert J. Mercado, Aerospace Engineer, 901 Locust, Room 301, Kansas City, Missouri 64106; telephone: (816) 329-4119; fax: (816) 329-4090, has the authority to approve AMOCs for this AD, if requested using the procedures found in 14 CFR 39.19.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(g) Refer to MCAI European Aviation Safety Agency (EASA) AD No. 2006-0085, dated April 12, 2006, for related information.

Material Incorporated by Reference

(h) You must use EADS SOCATA TBM Aircraft Mandatory Service Bulletin SB 70-130, ATA No. 32, dated January 2006, to do the actions required by this AD, unless the AD specifies otherwise.

(1) The Director of the Federal Register approved the incorporation by reference of this service information under 5 U.S.C. 552(a) and 1 CFR part 51.

(2) For service information identified in this AD, contact EADS SOCATA, Direction des Services, 65921 Tarbes Cedex 9, France; telephone: 33 (0)5 62.41.73.00; fax: 33 (0)5 62.41.76.54.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on February 8, 2007.
Kim Smith,
Manager, Small Airplane Directorate, Aircraft Certification Service.

[FR Doc. 07-670 Filed 2-15-07; 8:45 am]

BILLING CODE 4910-13-P